DEPARTMENT OF THE INTERIOR

Fish and Wildlife Service

[FWS-R8-R-2014-N168; FXRS12610800000-145-FF08R00000]

San Diego National Wildlife Refuge, San Diego County, CA; Draft Comprehensive Conservation Plan and Environmental Assessment

AGENCY: Fish and Wildlife Service, Interior.

ACTION: Notice of availability; reopening of public comment period.

SUMMARY: We, the U.S. Fish and Wildlife Service (Service), advise the public that we are reopening the public review and comment period for the Draft Comprehensive Conservation Plan (CCP) and Environmental Assessment (EA) for the San Diego National Wildlife Refuge (NWR).

DATES: To ensure consideration, we must receive your written comments by September 17, 2014.

ADDRESSES: Send your comments or requests for more information by any of the following methods.

Email: fw8plancomments@fws.gov. Include “San Diego NWR CCP” in the subject line of the message.

Fax: Attn: San Diego NWR CCP, 619-476-9149.

U.S. Mail: U.S. Fish and Wildlife Service, Attn: San Diego NWR CCP, P.O. Box 2358, Chula Vista, CA 91912.

You will find the draft CCP/EA, as well as information about the planning process and a summary of the CCP, on the Refuge Web site: http://www.fws.gov/refuge/San_Diego/what_we_do/planning.html.

FOR FURTHER INFORMATION CONTACT: Victoria Touchstone, Refuge Planner, at 619-476-9150, extension 103, or Jill Terp, Refuge Manager, at 619-468-9245, extension 226.

SUPPLEMENTARY INFORMATION:

Introduction

On June 19, 2014, we published a Federal Register notice (79 FR 35183) announcing the availability of the draft San Diego NWR CCP/EA for public review and comment in accordance with National Environmental Policy Act (40 CFR 1506.6(b)) requirements. We originally opened the comment period from June 19, 2014, to August 18, 2014. We are reopening the public comment period until September 17, 2014, due to the level of interest in the various public use proposals addressed in the alternatives for the draft San Diego NWR CCP. For more information on the draft CCP/EA and the planning process we followed, please see the June 2014 notice.

Public Involvement

You may submit written comments anytime during the comment period (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2014-20730 Filed 8-29-14; 8:45 am]

BILLING CODE 4310-55-P